NATIONAL SCIENCE FOUNDATION

Advisory Committee for Engineering; Notice of Meeting

In accordance with Federal Advisory Committee Act (Pub. L. 92-463, as amended), the National Science Foundation announces the following meeting:

Name: Advisory Committee for Engineering (1170).

Date/Time: November 16, 2006; 8 a.m.-5 p.m. November 17, 2006; 8 a.m.-12 p.m.

Place: National Science Foundation, Room 1235.

Type of Meeting: Open Session.

Contact Person: Deborah Young, Administrative Officer, Office of the Assistant Director for Engineering, 703-292-8301.

Purpose of Meeting: To provide advice, recommendations and counsel on major goals and policies pertaining to engineering programs and activities.

Agenda: Major topics will include:

Overview and Discussion of Engineering Themes

—Biology in Engineering.

—Complexity in Engineered and Natural Systems.

—Critical Infrastructure Systems.

—Manufacturing Frontiers.

—New Frontiers in Nanotechnology.

Update on Cyberinfrastructure and Simulation-Based Engineering Science.

K-12 Subcommittee.

Industry Partnerships Subcommittee.

Diversity.

Dated: October 12, 2006.
Susanne Bolton,
Committee Management Officer.

[FR Doc. 06-8719 Filed 10-16-06; 8:45 am]

BILLING CODE 7555-01-M